DEPARTMENT OF HEALTH AND HUMAN SERVICES

Centers for Disease Control and Prevention

National Center for Environmental Health/Agency for Toxic Substances and Disease Registry; The Program Peer Review Subcommittee of the Board of Scientific Counselors (BSC), Centers for Disease Control and Prevention (CDC), National Center for Environmental Health/Agency or Toxic Substances and Disease Registry (NCEH/ATSDR): Teleconference

In accordance with section 10(a)(2) of the Federal Advisory Committee Act (Pub. L. 92-463), CDC, NCEH/ATSDR announces the following subcommittee meeting:

Name: Program Peer Review Subcommittee (PPRS).

Time and Date: 10 a.m.-12 p.m. Eastern Daylight Savings Time, August 14, 2006.

Place: The teleconference will originate at NCEH/ATSDR in Atlanta, Georgia. To participate, dial 877-315-6535 and enter conference code 383520.

Purpose: Under the charge of the BSC, NCEH/ATSDR, the PPRS will provide the Board with advice and recommendations on NCEH/ATSDR program peer review. They will serve the function of organizing, facilitating, and providing a long-term perspective to the conduct of NCEH/ATSDR program peer review.

Matters to be Discussed: A review of the minutes from the previous meeting; a review and discussion of the draft Program Peer Review Self-Assssment Tool questionnaire; a review and discussion of the partners' and senior management questionnaires; a discussion of the peer review site visit for the Division of Health Assessment and Consultation and the Division of Regional Operation; and a discussion of the peer review timeline.

Due to programmatic matters, this Federal Register Notice is being published on less than 15 calendar days notice to the public (41 CFR 102-.3.150(b))

Agenda items are subject to change as priorities dictate.

FOR FURTHER INFORMATION CONTACT: Sandra Malcom, Committee Management Specialist, office of Science, NCEH/ATSDR, M/S E-28, 1600 Clifton Road, NE., Atlanta, Georgia 30333, telephone 404-498-0622.

SUPPLEMENTARY INFORMATION: Public comment period is scheduled for 11:30 a.m.-11:40 a.m.

The Director, Management Analysis and Services Office, has been delegated the authority to sign Federal Register notices pertaining to announcements of meetings and other committee management activities for both CDC and NCEH/ATSDR. Analysis and Services Office, Centers for Disease Control and Prevention.

Dated: July 28, 2006.
Alvin Hall,
Director, Management Analysis and Services Office, Centers for Disease Control and Prevention.

[FR Doc. 06-6665 Filed 8-1-06; 8:45 am]

BILLING CODE 4163-18-M